SMALL BUSINESS ADMINISTRATION

[Disaster Declaration #12272 and #12273]

Kansas Disaster Number KS-00045

AGENCY: U.S. Small Business Administration.

ACTION: Amendment 1.

SUMMARY: This is an amendment of the Presidential declaration of a major disaster for Public Assistance Only for the State of KANSAS (FEMA-1932-DR), dated 08/10/2010 .

Incident: Severe Storms, Flooding, and Tornadoes.

Incident Period: 06/07/2010 through 07/21/2010.

DATES: Effective Date: 09/02/2010.

Physical Loan Application Deadline Date: 10/12/2010.

Economic Injury (EIDL) Loan Application Deadline Date: 05/10/2011.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street, SW., Suite 6050, Washington, DC 20416.

SUPPLEMENTARY INFORMATION: The notice of the President's major disaster declaration for Private Non-Profit organizations in the State of Kansas, dated 08/10/2010, is hereby amended to include the following areas as adversely affected by the disaster.

Primary Counties:

Cheyenne, Decatur, Elk, Jackson, Mcpherson, Sheridan, Wilson.

All other information in the original declaration remains unchanged.

(Catalog of Federal Domestic Assistance Numbers 59002 and 59008)

James E. Rivera,
Associate Administrator for Disaster Assistance.

[FR Doc. 2010-22744 Filed 9-10-10; 8:45 am]

BILLING CODE 8025-01-P